DEPARTMENT OF HEALTH AND HUMAN SERVICES

Health Resources and Services Administration

Agency Information Collection Activities: Submission to OMB for Review and Approval; Public Comment Request; Rural Health Care Coordination Network Partnership

AGENCY: Health Resources and Services Administration, HHS.

ACTION: Notice.

SUMMARY: In compliance with section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than August 18, 2016.

ADDRESSES: Submit your comments, including the ICR title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Rural Health Care Coordination Network Partnership Program Performance Improvement Measurement System.

OMB No. 0915-xxxx-New.

Abstract: The Rural Health Care Coordination Network Partnership (Care Coordination) Program is authorized under section 330A(f) of the Public Health Service Act (42 U.S.C. 254(c)(f)), as amended, to “support the development of formal, mature rural health networks that focus on care coordination activities for the following chronic conditions: diabetes, congestive heart failure and chronic obstructive pulmonary disease.” This authority permits the Federal Office of Rural Health Policy (FORHP) to support grants for eligible entities to promote, through planning and implementation, the development of integrated health care networks that have combined the functions of the entities participating in the networks to: (i) Achieve efficiencies; (ii) expand access to, coordinate, and improve the quality of essential health care services; and (iii) strengthen the rural health care system as a whole.

Need and Proposed Use of the Information: For this program, performance measures were drafted to provide data to the program and to enable HRSA to provide aggregate program data required by Congress under the Government Performance and Results Act (GPRA) of 1993. These measures cover the principal topic areas of interest to FORHP, including: (a) Access to care; (b) population demographics; (c) staffing; (d) sustainability; (e) health information technology; (f) quality improvement; (g) care coordination; and (h) clinical measures. Several measures will be used for the Outreach Program. All measures will speak to FORHP's progress toward meeting the goals.

Likely Respondents: The respondents would be recipients of the Care Coordination program funding.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Health Care Coordination Network Partnership Grant Program Measures | 8 | 1 | 8 | 3.5 | 28
Total | 8 |  | 8 |  | 28

Jason E. Bennett,
Director, Division of the Executive Secretariat.

[FR Doc. 2016-17005 Filed 7-18-16; 8:45 am]

BILLING CODE 4165-15-P